DEPARTMENT OF TRANSPORTATION

Federal Aviation Administration

[Docket No. FAA-2005-22020, FAA Order 1050.1E, Change 1]

Environmental Impacts: Policies and Procedures

AGENCY: Federal Aviation Administration, DOT

ACTION: Notice of adoption; notice of availability.

SUMMARY: The Federal Aviation Administration (FAA) has revised its procedures for implementing the National Environmental Policy Act by revising Order 1050.1E, Environmental Impacts: Policies and Procedures, with Order 1050.1E, Change 1. The revisions include: changes for clarification, consistency, and addition of information; corrections; and editorial changes. This notice informs the public of the availability of the Final Order. This notice also provides the public with information on how to access Order 1050.1E, Change 1 on FAA's Office of Environment and Energy Web site.

DATES: Order 1050.1E is effective March 20, 2006.

FOR FURTHER INFORMATION CONTACT: Mr. Matthew McMillen, Office of Environment and Energy, FAA, 800 Independence Avenue, SW., Washington, DC 20591; Telephone (202) 493-4018.

SUPPLEMENTARY INFORMATION: The National Environmental Policy Act (NEPA) and implementing regulations promulgated by the Council on Environmental Quality (CEQ) (40 CFR parts 1500-1508) establish a broad national policy to protect the quality of the human environment and provide policies and goals to ensure that environmental considerations and associated public concerns are given careful attention and appropriate weight in all decisions of the Federal Government. Section 102(2) of NEPA and 40 CFR 1505.1 require Federal agencies to develop and, as needed, revise implementing procedures consistent with the CEQ regulations.

The FAA's previous NEPA Order, 1050.1E, Environmental Impacts: Policies and Procedures, provides FAA's policy and procedures for complying with the requirements of: (a) The CEQ regulations for implementing the procedural provisions of NEPA; (b) Department of Transportation (DOT) Order DOT 5610.1C, Procedures for Considering Environmental Impacts, and (c) other applicable environmental laws, regulations, and executive orders and policies. The FAA proposed to revise Order 1050.1E with Order 1050.1E, Change 1.

As part of revising its environmental order, the FAA requested public comment on the draft Order in a Federal Register notice dated Tuesday, December 20, 2006 (Vol. 70, No. 243, p. 75529). The FAA received one comment, which was considered in the issuance of the final Order 1050.1E, Change 1. The Order is distributed primarily by electronic means. The Order will be located for viewing and downloading by all interested parties at http://www.faa.gov/regulations_policies/orders_notices. If the public does not have access to the internet, they may obtain a computer disk containing the Order by contacting the Office of Environment and Energy, 800 Independence Avenue SW., Washington, DC 20591. If the public is not able to use an electronic version, they may obtain a photocopy of the Order by contacting FAA's rulemaking docket at Federal Aviation Administration, Office of Chief Council, Attn: Rules Docket (AGC-200)—Docket FAA-22005-22020, 800 Independence Avenue, SW., Washington, DC 20591.

Synopsis of Changes

The FAA Order 1050.1E, Change 1, Environmental Impacts: Policies and Procedures, includes changes to the previous version of the Order that may be of interest to the public and other government agencies. The final Order contains the same language as the proposed Order with the exception of the explicit language categorically excluding the establishment or modification of prohibited areas. The changes in Order 1050.1E, Change 1 include the following:

1. Change for clarification (Ch. 3, Para. 301c, Ch. 3, Para. 304c, Ch. 4, Para. 401p, Ch. 4, Para. 401p.(5), Ch. 5, text box on page 5-16, Appendix A, Section 9. Floodplains, Appendix A, Section 11. Historical, Architectural, Archeological, and Cultural Resources;

2. Editorial Change (Ch. 3, Para. 309c);

3. Change for consistency (Ch. 4, Para. 404e);

4. Change for consistency with CEQ regulations (Ch. 5, Para. 506b, Ch. 5, Para. 506e, Ch. 5, Para. 512);

5. Change for consistency with FAA Office of Environment and Energy policy (Ch. 5, Para. 509a.(1) and (4));

6. Change for correction (Appendix A, Section 3. Coastal Resources, Appendix A, Section 6. Department of Transportation Act, Section 4(f), Appendix C, Figure 3. Related Memoranda and Guidance);

7. Change for correction and consistency (Appendix A, Section 10. Hazardous Material, Pollution Prevention, and Solid Waste);

The draft Order 1050.1E, Change 1, published in the Federal Register, Volume 70, No. 243, at page 75529, dated Tuesday December 20, 2005, included the addition of a specific categorical exclusion (CATEX) for establishing or modifying a prohibited area. A prohibited area is established or modified through a rulemaking. The addition of this CATEX has been deferred pending further consideration. In the meantime, Order 1050.1E currently includes another, general, CATEX for rulemakings. This CATEX can, as is the case with all CATEXs, be used if there are no extraordinary circumstances. Consequently, it can be applied when accompanied with supporting documentation showing that there would be no extraordinary circumstances resulting in potentially significant impacts on the human environment as the result of establishing or modifying a prohibited area. If there are extraordinary circumstances, then preparation of an environmental assessment or environmental impact statement would be required for the rulemaking.

Disposition of Comments

The FAA received one comment on the proposed revision of 1050.1E, Change 1 from the Aircraft Owners and Pilots Association (AOPA) concerning the addition of CATEX 311f. As stated above, addition of this CATEX has been deferred.

Issued in Washington, DC, March 20, 2006.
Carl E. Burleson,
Federal Aviation Administration, Director, Office of Environment and Energy.

[FR Doc. E6-4375 Filed 3-24-06; 8:45 am]

BILLING CODE 4910-13-P